DEPARTMENT OF ENERGY

Federal Energy Regulatory Commission

[Project No. 14425-001]

Liberty University Inc.; Notice of Intent To File License Application, Filing of Pre-Application Document, Approving Use of the Traditional Licensing Process

a. Type of Filing: Notice of Intent to File License Application and Request to Use the Traditional Licensing Process.

b. Project No.: 14425-001.

c. Date Filed: September 1, 2015.

d. Submitted By: Liberty University Inc.

e. Name of Project: Scott's Mill Dam Hydroelectric Project.

f. Location: On the James River, in Amherst and Bedford Counties, Virginia. No federal lands are occupied by the project works or located within the project boundary.

g. Filed Pursuant to: 18 CFR 5.3 of the Commission's regulations.

h. Potential Applicant Contact: Christos Carol, Liberty University, 1972 University Boulevard, Lynchburg, VA 24502; (434) 592-6463; email—cccarroll2@liberty.edu.

i. FERC Contact: Jody Callihan at (202) 502-8278; or email at jody.callihan@ferc.gov.

j. Liberty University Inc. (Liberty) filed their request to use the Traditional Licensing Process on September 1, 2015. Liberty provided public notice of its request on September 28, 2015. In a letter dated October 23, 2015, the Director of the Division of Hydropower Licensing approved Liberty's request to use the Traditional Licensing Process.

k. With this notice, we are initiating informal consultation with the U.S. Fish and Wildlife Service under section 7 of the Endangered Species Act and the joint agency regulations thereunder at 50 CFR, Part 402. We are also initiating consultation with the Virginia State Historic Preservation Officer, as required by section 106, National Historic Preservation Act, and the implementing regulations of the Advisory Council on Historic Preservation at 36 CFR 800.2.

l. With this notice, we are designating Liberty University Inc. as the Commission's non-federal representative for carrying out informal consultation pursuant to section 7 of the Endangered Species Act and section 305(b) of the Magnuson-Stevens Fishery Conservation and Management Act; and consultation pursuant to section 106 of the National Historic Preservation Act.

m. Liberty University Inc. filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). Copies are also available for inspection and reproduction at the Lynchburg Public Library, 2315 Memorial Avenue, Lynchburg, VA 24501, and the Liberty University Library, DeMoss Dr., Lynchburg, VA 24502.

o. Register online at http://www.ferc.gov/docs-filing/esubscription.asp to be notified via email of new filings and issuances related to this or other pending projects. For assistance, contact FERC Online Support.

Dated: October 23, 2015.
Kimberly D. Bose,
Secretary.

[FR Doc. 2015-27575 Filed 10-28-15; 8:45 am]

BILLING CODE 6717-01-P